DEPARTMENT OF ENERGY

Federal Energy Regulatory Commission

[Docket No. EC04-4-000, et al.]

PSI Energy, Inc., et al.; Electric Rate and Corporate Filings

January 13, 2004.

The following filings have been made with the Commission. The filings are listed in ascending order within each docket classification.

1. PSI Energy, Inc. and Northern Indiana Public Service Company

[Docket No. EC04-40-000]

Take notice that on January 7, 2004, PSI Energy, Inc. and Northern Indiana Public Service Company (NIPSCO) tendered for filing an application requesting all necessary authorizations under Section 203 of the Federal Power Act, 16 U.S.C. 824b (2000), for PSI Energy, Inc. and NIPSCO to engage in a transfer of limited transmission assets from NIPSCO to PSI Energy, Inc.

NIPSCO states that copies of this filing have been served on the Indiana Utility Regulatory Commission.

Comment Date: January 28, 2004.

2. New York Independent System Operator, Inc.

[Docket Nos. ER03-552-006 and ER03-984-004]

Take notice that on January 7, 2004, the New York Independent System Operator, Inc. (NYISO) tendered for filing a compliance filing in connection with the Commission's December 23, 2003 Order in the above-referenced dockets.

The NYISO states it has served a copy of this filing to all parties listed on the official service list maintained by the Secretary of the Commission in these proceedings. The NYISO further states that it has served a copy of this filing to all parties that have executed Service Agreements under the NYISO's Open-Access Transmission Tariff or Services Tariff, the New York State Public Service Commission and to the electric utility regulatory agencies in New Jersey and Pennsylvania.

Comment Date: January 28, 2004.

3. New York Independent System Operator Inc.

[Docket No. ER03-836-003]

Take notice that on January 8, 2004, New York Independent System Operator Inc. (NYISO) tendered for filing its second 10-Minute Non-Synchronous Reserve Market Report (Report). NYISO states that the Report is in response to Commission's July 1, 2003 Order Conditionally Accepting Proposed Tariff Revisions that was issued in Docket No. ER03-836-000.

Comment Date: January 29, 2004.

4. Midwest Independent Transmission System Operator, Inc.

[Docket No. ER03-986-003]

Take notice that on January 8, 2004, the Midwest Independent Transmission System Operator, Inc. (Midwest ISO), pursuant to section 205 of the Federal Power Act and section 35.13 of the Commission's regulations 18 CFR 35.13 (2002), submitted for filing a second revised Interconnection and Operating Agreement among Montana-Dakota Utilities Co., a Division of MDU Resources Group, Inc. and Montana-Dakota Utilities Co., a Division of MDU Resources Group, Inc.

Midwest states that a copy of this filing was served on all parties.

Comment Date: January 29, 2004.

5. Green Power Partners I LLC

[Docket No. ER04-153-000]

Take notice that on January 8, 2004, Green Power Partners I LLC (Green Power) submitted for filing with the Federal Energy Regulatory Commission a Notice of Withdrawal of its application, as amended, requesting approval of a rate schedule, Rate Schedule FERC No. 3, pursuant to Section 205 of the Federal Power Act and Section 35.12 of the regulations of the Commission.

Comment Date: January 29, 2004.

6. System Energy Resources, Inc.

[Docket No. ER04-329-000]

Take notice that on December 24, 2003, System Energy Resources, Inc. (SERI) tendered for filing revisions to the Master Nuclear Decommissioning Trust Fund Agreement between SERI and Irving Trust Company (Decommissioning Agreement). The Decommissioning Agreement is designed as SERI Rate Schedule No. 4. SERI states that the revisions are designed to implement a recent rulemaking by the Nuclear Regulatory Commission that requires these revisions. SERI requests an effective date of December 24, 2003.

Comment Date: January 23, 2004.

7. Pacific Gas and Electric Company

[Docket No. ER04-377-000]

Take notice that on January 7, 2004, Pacific Gas and Electric Company (PG&E) tendered for filing a Generator Special Facilities Agreement and Generator Interconnection Agreement between PG&E and the following generators: GWF Energy LLC—Hanford, Sunrise Cogeneration and Power Company, La Paloma Generating Company, Ltd., NEO Corporation—Chowchilla, and Fresno Cogeneration Partners, LP. PG&E states that the primary purpose of this filing is to obtain Commission authorization to commence payment of credits to the generators for generator-funded network upgrades, in accordance with current Commission policy. PG&E has requested certain waivers.

PG&E states that copies of this filing have been served upon GWF Hanford, Sunrise, La Paloma, NEO Chowchilla, Fresno, the California Independent System Operator Corporation and the CPUC.

Comment Date: January 28, 2004.

8. PJM Interconnection, L.L.C.

[Docket No. ER04-378-000]

Take notice that on January 7, 2004, PJM Interconnection, L.L.C. (PJM), submitted for filing an executed Construction Service Agreement (CSA) among PJM and U.S. General Services Administration Federal Research Center, White Oak, and Potomac Electric Power Company. PJM requests a waiver of the Commission's 60-day notice requirement to permit a December 23, 2003 effective date for the CSA.

PJM states that copies of this filing were served upon the parties to the agreements and the state regulatory commissions within the PJM region.

Comment Date: January 28, 2004.

9. Ameren Services Company

[Docket No. ER04-379-000]

Take notice that on January 8, 2004, Ameren Services Company (ASC) tendered for filing an executed Network Integration Transmission Service Agreement and Network Operating Agreement between ASC and The City of St. James, Missouri. ASC asserts that the purpose of the Agreement is to permit ASC to provide transmission service to The City of St. James, Missouri pursuant to Ameren's Open Access Transmission Tariff.

Comment Date: January 29, 2004.

10. Avista Corporation

[Docket No. ER04-380-000]

Take notice that on January 8, 2004, Avista Corporation (Avista) tendered for filing with the Federal Energy Regulatory Commission, Original Service Agreement No. 305, which is an Agreement for Purchase and Sale of Power between Avista and Public Utility District No. 1 of Douglas County, Washington (Douglas). Avista respectfully requests that the Commission grant all waivers necessary to allow Service Agreement No. 305 to become effective January 1, 2004.

Avista states that copies of the filing were served upon Douglas, the sole party to the Service Agreement.

Comment Date: January 29, 2004.

11. DC Energy, LLC

[Docket No. ER04-381-000]

Take notice that on January 8, 2004, DC Energy, LLC submitted for filing, pursuant to Section 205 of the Federal Power Act, and Part 35 of the Commission's regulations, an application for authorization to make sales, as a power marketer, of capacity, energy, and certain Ancillary Services at market-based rates; to reassign transmission capacity; and to resell firm transmission rights.

Comment Date: January 29, 2004.

12. American Transmission Company LLC

[Docket No. ER04-382-000]

Take notice that on January 8, 2004, American Transmission Company LLC (ATCLLC) tendered for filing a Generation-Transmission Interconnection Agreement between ATCLLC and Wisconsin Public Service Corporation for the Weston 4 generating Facilities. ATCLLC requests an effective date of December 22, 2003.

Comment Date: January 29, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-97 Filed 01-21-04; 8:45 am]

BILLING CODE 6717-01-P